JUSTICE DEPARTMENT

Notice of Proposed Settlement Agreement Under the Comprehensive Environmental Response, Compensation and Liability Act and the Delaware Hazardous Substances Cleanup Act

Notice is hereby given that the United States of America, on behalf of the National Oceanic and Atmospheric Administration (“NOAA”) and the Department of the Interior (“DOI”), acting through the Fish and Wildlife Service, in collaboration with the State of Delaware, on behalf of the Delaware Department of Natural Resources and Environmental Control (“DNREC”) (collectively, the “Trustees”), are providing an opportunity for public comment on a proposed Settlement Agreement (“Settlement Agreement”) between the Trustees and the E.I. du Pont de Nemours and Co. and The Chemours Co. FC, LLC (“Settling Defendants”). The Agreement resolves natural resource damages claims under section 107(a) of the Comprehensive Environmental Response, Compensation, and Liability Act of 1980, as amended (“CERCLA”), 42 U.S.C. 9607(a), and the Delaware Hazardous Substances Cleanup Act, 7 Del. C. chapter 91, related to the alleged release of hazardous substances from two manufacturing facilities owned and/or operated by the Settling Defendants. These now-shuttered facilities are the Edge Moor Plant and the Hay Road Iron Rich Landfill in New Castle County, Delaware. The alleged release of hazardous substances specifically led to injury to, impairment of, destruction of, loss of, diminution of value of, and/or loss of use of natural resources, including the reasonable costs of assessing the injuries.

Under the Settlement Agreement, the Settling Defendants will pay a total of $1,071,755.84 to resolve the Trustees' claims. Of this amount, $808,500 will be available for natural resource restoration projects to be selected by the Trustees in the future and implemented in the vicinity of the Site to compensate the public for the natural resource damages. The remaining $263,255.84 will be allocated to the Trustees' for reimbursement of their natural resource damages assessment costs. Specifically, $172,397.64 will go to NOAA; $1,204.40 to DOI; and $89,653.80 to DNREC.

The publication of this notice opens a period for public comment on the proposed Settlement Agreement. Comments on the proposed Settlement Agreement should be addressed to the Assistant Attorney General, Environment and Natural Resources Division, and should refer to The Chemours/DuPont Edge Moor Settlement Agreement, D.J. Ref. No. 90-5-1-1-12319. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decree/us-et-al-v-ei-du-pont-de-nemours-and-company-and-chemours-company-fc-llc. We will provide a paper copy of the Settlement Agreement upon written request and payment of reproduction costs. Please mail your request and payment to: Consent Decree Library, U.S. DOJ—ENRD, P.O. Box 7611, Washington, DC 20044-7611.

Please enclose a check or money order for $4.25 (25 cents per page reproduction cost) payable to the United States Treasury.

Jeffrey Sands,
Assistant Section Chief, Environmental Enforcement Section, Environment and Natural Resources Division.

[FR Doc. 2022-27487 Filed 12-19-22; 8:45 am]

BILLING CODE 4410-15-P